REAGAN-UDALL FOUNDATION FOR THE FOOD AND DRUG ADMINISTRATION

[BAC 416404]

Annual Public Meeting; Correction

ACTION: Notice of annual meeting; correction.

SUMMARY: The Reagan-Udall Foundation for the Food and Drug Administration (FDA), published a document in the Federal Register of April 3, 2014, concerning the Foundation's Annual Open Public Meeting on May 14, 2014. The document contained the incorrect address for the meeting location.

FOR FURTHER INFORMATION CONTACT: Jane Reese-Coulbourne, 202-828-1206.

Correction

In the Federal Register of April 3, 2014, in FR Doc. 2014-07484, in the ADDRESSES section, correct the ADDRESSES section to read:

ADDRESSES: The public meeting will be held at the 901 East Conference Center, The Pew Charitable Trusts, 901 E St. NW., Washington, DC 20004.

Dated: April 21, 2014.
Jane Reese-Coulbourne,
Executive Director, Reagan-Udall Foundation for the FDA.

[FR Doc. 2014-09389 Filed 4-24-14; 8:45 am]

BILLING CODE 4164-04-P